ENVIRONMENTAL PROTECTION AGENCY

[FRL-7619-6]

Integrating Ecological Risk Assessment and Economic Analysis in Watersheds: a Conceptual Approach and Three Case Studies

AGENCY: Environmental Protection Agency.

ACTION: Notice of availability.

SUMMARY: This notice announces the availability of a final report titled, Integrating Ecological Risk Assessment and Economic Analysis in Watersheds: a Conceptual Approach and Three Case Studies (EPA/600/R-03/140R), which was prepared by the U.S. Environmental Protection Agency's (EPA) National Center for Environmental Assessment (NCEA) of the Office of Research and Development (ORD).

ADDRESSES: The document will be made available electronically through the NCEA Web site (http://www.epa.gov/ncea). A limited number of paper copies will be available from the EPA's National Service Center for Environmental Publications (NSCEP), PO Box 42419, Cincinnati, OH 45242; telephone: 1-800-490-9198 or 513-489-8190; facsimile: 513-489-8695. Please provide your name, your mailing address, the title and the EPA number of the requested publication.

FOR FURTHER INFORMATION CONTACT: The Technical Information Staff, National Center for Environmental Assessment/Cincinnati Office (MS-117), U.S. Environmental Protection Agency, 26 W. Martin Luther King Drive, Cincinnati, OH 56428; Telephone: 513-569-7257; fax: 513-569-7475; e-mail: nceadc.comment@epa.gov.

SUPPLEMENTARY INFORMATION: This document reports on a program of research to investigate the integration of ecological risk assessment (ERA) and economics, with an emphasis on the watershed as the scale for analysis. In 1993, the U.S. Environmental Protection Agency initiated watershed ERA (W-ERA) in five watersheds to evaluate the feasibility and utility of this approach. In 1999, economic case studies were funded in conjunction with three of those W-ERAs: the Big Darby Creek watershed in central Ohio, the Clinch Valley (Clinch and Powell River watersheds) in southwestern Virginia and northeastern Tennessee, and the central Platte River floodplain in Nebraska. The ecological settings, and the analytical approaches used, differed among the three locations, but each study introduced economists to the ERA process and required the interpretation of ecological risks in economic terms. A workshop was held in Cincinnati, Ohio, in 2001 to review progress on those studies, to discuss environmental problems involving other watershed settings, and to discuss the ideal characteristics of a generalized approach for conducting studies of this type. Based on the workshop results, a conceptual approach for the integration of ERA and economic analysis in watersheds was developed. The objectives of this document (by chapter) are: to set forth the rationale, limitations, and contributions of the document (Chapter 1); to create a context for understanding by a diverse, technical audience (Chapter 2); to present a conceptual approach for integrating ERA and economics in the context of watershed management (Chapter 3); to present and critically evaluate the methods and findings of the three watershed case studies (Chapters 4-6); and to identify research needed to improve the integration of ERA and economic analysis in watersheds (Chapter 7). This report is unique in its focus on the problem of ERA-economic integration and the watershed management context and in its presentation of case studies. The conceptual approach is used as a basis of discussion of each case study to illustrate how its particular methodological advances and insights could be used to fullest advantage, both in the watershed studied and in future integration efforts.

Dated: January 28, 2004.
Peter W. Preuss,
Director, National Center for Environmental Assessment.

[FR Doc. 04-2714 Filed 2-6-04; 8:45 am]

BILLING CODE 6560-50-P